DEPARTMENT OF JUSTICE

Notice of Lodging of Consent Decree in Under the Comprehensive Environmental Response, Compensation, and Liability Act

Under 28 CFR 50.7, notice is hereby given that on October 30, 2003, a proposed Consent Decree in United States and Idaho v. Estate of J.J. Oberbillig, Civil Action No. CV02-451-S-LMB was lodged with the United States District Court for the District of Idaho.

The United States and Idaho filed a civil action for injunctive relief and recovery of response costs for cleaning up the Stibnite Mine Site and Cinnabar Mine Site in Valley County, Idaho (the “Sites”) against the Estate of J.J. Oberbillig (“Defendant”) in the District of Idaho on September 26, 2002. In this action, the United States asserted claims under Sections 106(a) and 107 of the Comprehensive Environmental Response, Compensation and Liability Act, (“CERCLA”), 42 U.S.C. 9606(a) and 9607, and Idaho asserted claims under Section 107(a) of CERCLA and Idaho Code Sections 39-108, 39-4414.

Under the terms of the proposed Consent Decree settling the claims asserted in the Complaint, Defendant agrees to pay $152,206.00 of the United States' past response costs and $50,703.00 of Idaho's past response costs. The remaining monies in the Estate, $25,323.00, will be retained by Defendant for probate and estate administration expenses. Defendant also agrees to access by the United States and Idaho to the Sites, and to adjacent property, and to construction of a repository on Defendant's property at the Stibnite Site where wastes from the response actions will be deposited. In return for the commitments by Defendant, the United States grants Defendant a covenant not to sue under CERCLA Sections 106 and 107(a), 42 U.S.C. 9606 and 9607(a), relating to the Sites, and Idaho grants Defendant a covenant not to sue under CERCLA Section 107(a) of 42 U.S.C. 9607(a), and Idaho Environmental Protection and Health Act, Idaho Code Section 39-101, et seq., relating to the Sites.

The Department of Justice will receive, for a period of thirty (30) days from the date of this publication, comments relating to the Consent Decree. Comments should be addressed to the Assistant Attorney General, Environment and Natural Resources Division, P.O. Box 7611, U.S. Department of Justice, Washington, D.C. 20044-7611, and should refer to United States and Idaho v. Estate of J.J. Oberbillig, D.J. Ref. No. 90-11-3-06069/3.

The Consent Decree may be examined at the Office of the United States Attorney, 877 West Main Street, Suite 201, Boise, ID 83702 and at U.S. EPA Region X, 1200 Sixth Avenue, Seattle, WA 98101. During the public comment period, the Consent Decree may also be examined on the following Department of Justice Web site: http://www.usdoj.gov/enrd/open.html.

A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury. If requesting a copy of the Consent Decree exclusive of Appendices, please enclose a check in the amount of $7.75 (25 cents per page reproduction cost) payable to the U.S. Treasury.

Robert E. Maher, Jr.,
Assistant Section Chief, Environmental Enforcement Section, Environment and Natural Resources Division.

[FR Doc. 03-28931 Filed 11-18-03; 8:45 am]

BILLING CODE 4410-15-M